NUCLEAR REGULATORY COMMISSION

[NRC-2021-0111]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person. This monthly notice includes all amendments issued, or proposed to be issued, from April 2, 2021, to April 29, 2021. The last monthly notice was published on April 20, 2021.

DATES: Comments must be filed by June 17, 2021. A request for a hearing or petitions for leave to intervene must be filed by July 19, 2021.

ADDRESSES: You may submit comments by any of the following methods; however, the NRC encourages electronic comment submission through the Federal Rulemaking website:

• Federal Rulemaking Website: Go to https://www.regulations.gov and search for Docket ID NRC-2021-0111. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001, telephone: 301-415-5411, email: Shirley.Rohrer@nrc.gov.

SUPPLEMENTARY INFORMATION:

I. Obtaining Information and Submitting Comments

A. Obtaining Information

Please refer to Docket ID NRC-2021-0111, facility name, unit number(s), docket number(s), application date, and subject when contacting the NRC about the availability of information for this action. You may obtain publicly available information related to this action by any of the following methods:

• Federal Rulemaking Website: Go to https://www.regulations.gov and search for Docket ID NRC-2021-0111.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

B. Submitting Comments

The NRC encourages electronic comment submission through the Federal Rulemaking website (https://www.regulations.gov). Please include Docket ID NRC-2021-0111, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown below, the Commission finds that the licensees' analyses provided, consistent with title 10 of the Code of Federal Regulations (10 CFR) section 50.91, are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity to Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right to be made a party to the proceeding; (3) the nature and extent of the petitioner's property, financial, or other interest in the proceeding; and (4) the possible effect of any decision or order which may be entered in the proceeding on the petitioner's interest.

In accordance with 10 CFR 2.309(f), the petition must also set forth the specific contentions that the petitioner seeks to have litigated in the proceeding. Each contention must consist of a specific statement of the issue of law or fact to be raised or controverted. In addition, the petitioner must provide a brief explanation of the bases for the contention and a concise statement of the alleged facts or expert opinion that support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one that, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally recognized Indian Tribe, or agency thereof does not need to address the standing requirements in 10 CFR 2.309(d) if the facility is located within its boundaries. Alternatively, a State, local governmental body, Federally recognized Indian Tribe, or agency thereof may participate as a non-party under 10 CFR 2.315(c).

If a petition is submitted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call to 1-866-672-7640. The NRC Electronic Filing Help Desk is available between 9:00 a.m. and 6:00 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The table below provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Dominion Energy Nuclear Connecticut, Inc.; Millstone Power Station, Unit 3; New London County, CT
Docket No(s) | 50-423.
Application date | February 22, 2021.
ADAMS Accession No | ML21053A342.
Location in Application of NSHC | Page 11-14 of Attachment 1.
Brief Description of Amendment(s) | The proposed amendment would revise the Millstone, Unit 3, Technical Specification (TS) 3.1.3.2 to provide an alternative monitoring option for the condition where a maximum of one digital rod position indicator per bank is inoperable. Specifically, as an alternative to determining the position of the non-indicating rod(s) indirectly by the movable incore detectors at a frequency of once per 8 hours, the change would allow rod position verification to be performed based on the occurrence of rod movement or power level change. This revision would be consistent with Technical Specifications Task Force (TSTF) Traveler TSTF-547, Revision 1, and would provide an alternate TS Actions to allow the position of the rod to be monitored by a means other than movable incore detectors. The amendment would also revise TS 3.1.3.5 to replace shutdown “rods” with shutdown “banks,” consistent with wording in the Standard TSs for Westinghouse Plants, as provided in NUREG-1431, Revision 4. Finally, the amendment would revise the title of TS 3.1.3.6 to reflect that the requirements apply to control “banks,” and modify TS 6.9.1.6.a and TS 6.9.1.6.b to cite the revised titles of TS 3.1.3.5 and TS 3.1.3.6.
Proposed Determination | NSHC.
Name of Attorney for Licensee, Mailing Address | W.S. Blair, Senior Counsel, Dominion Resource Services, Inc., 120 Tredegar St., RS-2, Richmond, VA 23219.
NRC Project Manager, Telephone Number | Richard Guzman, 301-415-1030.
Duke Energy Florida, LLC; Crystal River, Unit 3, Nuclear Generating Station; Citrus County, FL
Docket No(s) | 50-302.
Application date | March 17, 2021.
ADAMS Accession No | ML21076A386.
Location in Application of NSHC | Pages 11-13 of Enclosure 1.
Brief Description of Amendment(s) | The proposed amendment would revise the Crystal River Nuclear Plant, Unit 3, Independent Spent Fuel Storage Installation Only Emergency Plan (IOEP) and Emergency Action Level Bases Manual to include (1) a revision of the emergency action levels to be consistent with guidance in 10 CFR 72.32(a); (2) a revised emergency response organization; (3) incorporation of the Emergency Action Level Bases Manual into the IOEP; and (4) removal of items unnecessarily carried over from the Permanently Defueled Emergency Plan and other previous emergency plans.
Proposed Determination | NSHC.
Name of Attorney for Licensee, Mailing Address | Gregory Di Carlo, Vice President/General Counsel, NorthStar Group Services, Inc., 2760 South Falkenburg Rd., Riverview, FL 33578.
NRC Project Manager, Telephone Number | Marlayna Doell, 301-415-3178.
Duke Energy Florida, LLC; Crystal River, Unit 3, Nuclear Generating Station; Citrus County, FL
Docket No(s) | 50-302.
Application date | March 17, 2021.
ADAMS Accession No | ML21085A750.
Location in Application of NSHC | Enclosure 2.
Brief Description of Amendment(s) | The proposed amendment would revise Crystal River Nuclear Plant, Unit 3 (CR3), Independent Spent Fuel Storage Installation (ISFSI) Security Plan, Training and Qualification Plan, and Safeguards Contingency Plan, as well as update (1) the existing physical security license condition in the facility operating license and (2) order responses related to additional security measures and fingerprinting for unescorted access at the CR3 ISFSI.
Proposed Determination | NSHC.
Name of Attorney for Licensee, Mailing Address | Gregory Di Carlo, Vice President/General Counsel, NorthStar Group Services, Inc., 2760 South Falkenburg Rd., Riverview, FL 33578.
NRC Project Manager, Telephone Number | Marlayna Doell, 301-415-3178.
Duke Energy Progress, LLC; Shearon Harris Nuclear Power Plant, Unit 1; Wake and Chatham Counties, NC
Docket No(s) | 50-400.
Application date | January 14, 2021.
ADAMS Accession No | ML21014A092.
Location in Application of NSHC | Pages 14-16 of Enclosure.
Brief Description of Amendment(s) | The proposed amendment would revise the license condition associated with the adoption of 10 CFR 50.69, “Risk-informed Categorization and Treatment of Structures, Systems and Components for Nuclear Power Reactors” to reflect an alternative approach to the one provided in Nuclear Energy Institute's (NEI) 00-04, “10 CFR 50.69 SSC Categorization Guideline,” Revision 0 (ADAMS Accession No. ML052910035), for evaluating the impact of seismic hazards in the 10 CFR 50.69 categorization process.
Proposed Determination | NSHC.
Name of Attorney for Licensee, Mailing Address | David Cummings, Associate General Counsel, Mail Code DEC45, 550 South Tryon Street, Charlotte, NC 28202.
NRC Project Manager, Telephone Number | Michael Mahoney, 301-415-3867.
Entergy Operations, Inc.; Waterford Steam Electric Station, Unit 3; St. Charles Parish, LA
Docket No(s) | 50-382.
Application date | February 8, 2021, as supplemented by letter(s) dated April 8, 2021.
ADAMS Accession No | ML21039A648, ML21098A262.
Location in Application of NSHC | Pages 7-8 of Attachment 1.
Brief Description of Amendment(s) | The proposed amendment would modify technical specification requirements to permit the use of risk-informed completion times in accordance with Technical Specifications Task Force (TSTF) Traveler, TSTF-505, Revision 2, “Provide Risk-Informed Extended Completion Times—RITSTF [Risk-Informed TSTF] Initiative 4b,” dated July 2, 2018 (ADAMS Accession No. ML18183A493).
Proposed Determination | NSHC.
Name of Attorney for Licensee, Mailing Address | Anna Vinson Jones, Senior Counsel, Entergy Services, Inc., 101 Constitution Avenue NW, Suite 200 East, Washington, DC 20001.
NRC Project Manager, Telephone Number | Perry Buckberg, 301-415-1383.
Entergy Operations, Inc.; Waterford Steam Electric Station, Unit 3; St. Charles Parish, LA
Docket No(s) | 50-382.
Application date | September 20, 2019, as supplemented by letter(s) dated April 26, 2021.
ADAMS Accession No | ML19263F129, ML21116A143.
Location in Application of NSHC | Pages 11-12 of the Enclosure to the Application.
Brief Description of Amendment(s) | The proposed amendment would revise the Waterford Steam Electric Station, Unit 3, Technical Specifications (TSs) to remove TSs 3.1.2.1 through 3.1.2.8, “Boration Systems,” and references to the TSs. Boration Systems TSs for equipment required to support the safety function of the auxiliary pressurizer spray system would be relocated to TS 3/4. 4.3.2, “Auxiliary Spray,” and the remainder of the Boration Systems TS information would be relocated to the licensee-controlled Technical Requirements Manual. The proposed amendment was previously noticed on December 17, 2019 (84 FR 68952), and is being re-noticed to include the new TS location for equipment required to support the safety function of the auxiliary pressurizer spray system. The NSHC previously submitted in the application dated September 20, 2019, bounds this proposed revision to the application.
Proposed Determination | NSHC.
Name of Attorney for Licensee, Mailing Address | Anna Vinson Jones, Senior Counsel, Entergy Services, Inc., 101 Constitution Avenue NW, Suite 200 East, Washington, DC 20001.
NRC Project Manager, Telephone Number | Perry Buckberg, 301-415-1383.
Entergy Operations, Inc.; Waterford Steam Electric Station, Unit 3; St. Charles Parish, LA
Docket No(s) | 50-382.
Application date | April 5, 2021.
ADAMS Accession No | ML21095A156.
Location in Application of NSHC | Page 9-10 of the Enclosure.
Brief Description of Amendment(s) | The proposed amendment would revise the Waterford Steam Electric Station, Unit 3, Technical Specifications (TSs) to remove TSs 3.3.3.7.1 and 3.3.3.7.3, “Chemical Detection Systems,” and references to the TSs and relocate the information to the licensee-controlled Technical Requirements Manual.
Proposed Determination | NSHC.
Name of Attorney for Licensee, Mailing Address | Anna Vinson Jones, Senior Counsel, Entergy Services, Inc., 101 Constitution Avenue NW, Suite 200 East, Washington, DC 20001.
NRC Project Manager, Telephone Number | Perry Buckberg, 301-415-1383.
Indiana Michigan Power Company; Donald C. Cook Nuclear Plant, Units 1 and 2; Berrien County, MI
Docket No(s) | 50-315, 50-316.
Application date | March 23, 2021.
ADAMS Accession No | ML21082A496.
Location in Application of NSHC | Pages 9-10 of Enclosure 2.
Brief Description of Amendment(s) | The proposed amendment would modify Technical Specification (TS) Bases for TS 3.3.3, “Post Accident Monitoring (PAM) Instrumentation.” The proposed change to the TS Bases would allow one channel of TS 3.3.3, “Post Accident Monitoring (PAM) Instrumentation,” Function 7, Containment Water Level, to be satisfied by a train of two operable containment water level switches in the event that both containment water level channels become inoperable. This alternate method of satisfying containment water level channel requirements would be limited to the remaining duration of the operating cycle each time it is invoked.
Proposed Determination | NSHC.
Name of Attorney for Licensee, Mailing Address | Robert B. Haemer, Senior Nuclear Counsel, Indiana Michigan Power Company, One Cook Place, Bridgman, MI 49106.
NRC Project Manager, Telephone Number | Scott Wall, 301-415-2855.
Nine Mile Point Nuclear Station, LLC and Exelon Generation Company, LLC; Nine Mile Point Nuclear Station, Unit 1; Oswego County, NY
Docket No(s) | 50-220.
Application date | December 18, 2020.
ADAMS Accession No | ML20353A401.
Location in Application of NSHC | Pages 3-5 of Attachment 1.
Brief Description of Amendment(s) | The proposed changes would revise the Nine Mile Point, Unit 1, technical specifications related to reactor pressure vessel (RPV) water inventory control (WIC) based on Technical Specifications Task Force (TSTF) Traveler TSTF-582, Revision 0, “RPV WIC Enhancements” (TSTF-582) (ADAMS Accession No. ML19240A260), and the associated NRC staff safety evaluation for TSTF-582 (ADAMS Accession No. ML20219A333).
Proposed Determination | NSHC.
Name of Attorney for Licensee, Mailing Address | Jason Zorn, Associate General Counsel, Exelon Generation Company, LLC, 101 Constitution Ave. NW, Suite 400, Washington, DC 20001.
NRC Project Manager, Telephone Number | Michael L. Marshall, Jr., 301-415-2871.
Pacific Gas and Electric Company; Diablo Canyon Power Plant, Units 1 and 2; San Luis Obispo County, CA
Docket No(s) | 50-275, 50-323.
Application date | December 3, 2020, as supplemented by letter(s) dated April 1, 2021.
ADAMS Accession No | ML20338A546, ML21091A069.
Location in Application of NSHC | Pages 10-12 of the Enclosure to the Supplement.
Brief Description of Amendment(s) | The amendments would revise the licenses and technical specifications to reflect the permanent cessation of reactor operation for Diablo Canyon Nuclear Power Plant, Units 1 and 2. The amendments would apply when the plants are permanently shutdown and defueled.
Proposed Determination | NSHC.
Name of Attorney for Licensee, Mailing Address | Jennifer Post, Esq., Pacific Gas and Electric Co., 77 Beale Street, Room 3065, Mail Code B30A, San Francisco, CA 94105.
NRC Project Manager, Telephone Number | Samson Lee, 301-415-3168.
STP Nuclear Operating Company; South Texas Project, Units 1 and 2; Matagorda County, TX
Docket No(s) | 50-498, 50-499.
Application date | March 11, 2021.
ADAMS Accession No | ML21070A429.
Location in Application of NSHC | Pages 4-5 of the Enclosure.
Brief Description of Amendment(s) | The amendments would revise the technical specifications (TSs) by adding a note to Limiting Condition for Operation 3.6.3 allowing for penetration flow paths to be unisolated intermittently under administrative controls. The amendments would also remove the Index from the TSs and place them under licensee control.
Proposed Determination | NSHC.
Name of Attorney for Licensee, Mailing Address | Kym Harshaw, Vice President and General Counsel, STP Nuclear Operating Company, P.O. Box 289, Wadsworth, TX 77483.
NRC Project Manager, Telephone Number | Dennis Galvin, 301-415-6256.
Tennessee Valley Authority; Browns Ferry Nuclear Plant, Units 1, 2, and 3; Limestone County, AL
Docket No(s) | 50-259, 50-260, 50-296.
Application date | March 5, 2021.
ADAMS Accession No | ML21064A508.
Location in Application of NSHC | Pages 9-11 of the Enclosure.
Brief Description of Amendment(s) | The proposed amendments would revise the technical specifications (TS) related to reactor pressure vessel (RPV) water inventory control (WIC) based on Technical Specifications Task Force (TSTF) Traveler TSTF-582, Revision 0, “RPV WIC Enhancements” (TSTF-582) (ADAMS Accession No. ML19240A260), and the associated NRC safety evaluation for TSTF-582 (ADAMS Accession No. ML20219A333).
Proposed Determination | NSHC.
Name of Attorney for Licensee, Mailing Address | David Fountain, Executive VP and General Counsel, Tennessee Valley Authority, 400 West Summit Hill Drive, WT 6A, Knoxville, TN 37902.
NRC Project Manager, Telephone Number | Michael Wentzel, 301-415-6459.
Tennessee Valley Authority; Watts Bar Nuclear Plant, Unit 1; Rhea County, TN
Docket No(s) | 50-390.
Application date | March 3, 2021.
ADAMS Accession No | ML21062A267.
Location in Application of NSHC | Pages E8-E9 of the Enclosure.
Brief Description of Amendment(s) | The proposed amendment would add a one-time exception to the existing Note in the Limiting Condition for Operation for Watts Bar, Unit 1 Technical Specification (TS) 3.7.12, “Auxiliary Building Gas Treatment System (ABGTS),” to allow the auxiliary building secondary containment enclosure boundary to be opened, at specific controlled access points, on a continuous basis during the Watts Bar, Unit 2, Cycle 4 refueling outage when the Unit 2 replacement steam generators are scheduled to be installed.
Proposed Determination | NSHC.
Name of Attorney for Licensee, Mailing Address | David Fountain, Executive VP and General Counsel, Tennessee Valley Authority, 400 West Summit Hill Drive, WT 6A, Knoxville, TN 37902.
NRC Project Manager, Telephone Number | Kimberly Green, 301-415-1627.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the table below. The safety evaluation will provide the ADAMS accession numbers for the application for amendment and the Federal Register citation for any environmental assessment. All of these items can be accessed as described in the “Obtaining Information and Submitting Comments” section of this document.

License Amendment Issuance(s)
Arizona Public Service Company, et al.; Palo Verde Nuclear Generating Station, Units 1, 2, and 3; Maricopa County, AZ
Docket No(s) | 50-528, 50-529, 50-530.
Amendment Date | April 21, 2021.
ADAMS Accession No | ML21105A340.
Amendment No(s) | 215 (Unit 1), 215 (Unit 2), and 215 (Unit 3).
Brief Description of Amendment(s) | The amendments changed the technical specifications to revise the current instrumentation testing definitions of channel calibration and channel functional test to permit determination of the appropriate frequency to perform the surveillance requirement based on the devices being tested in each step. The changes are based on Technical Specifications Task Force (TSTF) Traveler TSTF-563, Revision 0, “Revise Instrument Testing Definitions to Incorporate the Surveillance Frequency Control Program.”
Public Comments Received as to Proposed NSHC (Yes/No) | No.
Dominion Energy South Carolina, Inc.; Virgil C. Summer Nuclear Station, Unit 1, Fairfield County, SC
Docket No(s) | 50-395.
Amendment Date | April 9, 2021.
ADAMS Accession No | ML21063A001.
Amendment No(s) | 218.
Brief Description of Amendment(s) | The amendment revised Technical Specifications 3.6.4, “Containment Isolation Valves,” to replace the term “valve” with the term “barrier” to encompass all components providing the containment isolation function and to specify that the actions to address an inoperable containment isolation valve apply to the affected penetration flow path only rather than all flow paths associated with the penetration.
Public Comments Received as to Proposed NSHC (Yes/No) | No.
DTE Electric Company; Fermi, Unit 2; Monroe County, MI
Docket No(s) | 50-341.
Amendment Date | April 26, 2021.
ADAMS Accession No | ML21098A045.
Amendment No(s) | 219.
Brief Description of Amendment(s) | The amendment revised Technical Specification (TS) Section 1.3, “Completion Times,” and Section 3.0, “LCO [Limiting Condition for Operation] Applicability.” Specifically, these changes clarify and expand the use and application of the Fermi TS usage rules and are consistent with NRC-approved Technical Specifications Task Force (TSTF) Traveler TSTF-529, Revision 4.
Public Comments Received as to Proposed NSHC (Yes/No) | No.
Duke Energy Progress, LLC; Shearon Harris Nuclear Power Plant, Unit 1; Wake and Chatham Counties, NC
Docket No(s) | 50-400.
Amendment Date | April 2, 2021.
ADAMS Accession No | ML21047A314.
Amendment No(s) | 184.
Brief Description of Amendment(s) | The amendment revised technical specification requirements to permit the use of risk-informed completion times for actions to be taken when limiting conditions for operation are not met. The changes are consistent with Technical Specifications Task Force (TSTF) Traveler TSTF-505, Revision 2, “Provide Risk Informed Extended Completion Times—RITSTF Initiative 4b,” dated July 2, 2018.
Public Comments Received as to Proposed NSHC (Yes/No) | No.
Duke Energy Progress, LLC; Shearon Harris Nuclear Power Plant, Unit 1; Wake and Chatham Counties, NC
Docket No(s) | 50-400.
Amendment Date | April 8, 2021.
ADAMS Accession No | ML21047A470.
Amendment No(s) | 185.
Brief Description of Amendment(s) | The amendment revised Technical Specification (TS) 3/4.2.5, “DNB [Departure from Nucleate Boiling] Parameters,” and TS 6.9.1.6, “Core Operating Limits Report” in support of analysis development for Shearon Harris Nuclear Power Plant, Unit 1, (HNP), cycle 24 and the introduction of reload batches of Framatome, Inc. (Framatome) GAIA fuel assemblies. TS 3/4.2.5 is revised to reflect a lower minimum Reactor Coolant System (RCS) flow rate, whereas TS 6.9.1.6.2 is revised to reflect the incorporation of the AREVA NP, Inc., Topical Report EMF-2103(P)(A), Revision 3, “Realistic Large Break LOCA [Loss-of-Coolant Accident] Methodology for Pressurized Water Reactors”; HNP TS 6.9.1.6.2 is also revised to reflect the removal of analytical methods no longer applicable for the determination of HNP core operating limits. In addition, as part of the submitted license amendment request, the licensee provided an updated small break LOCA analysis, reflecting the proposed lower minimum RCS flow rate and the use of GAIA fuel assemblies.
Public Comments Received as to Proposed NSHC (Yes/No) | No.
Energy Harbor Nuclear Corp. and Energy Harbor Nuclear Generation LLC; Beaver Valley Power Station, Units 1 and 2; Beaver County, PA; Energy Harbor Nuclear Corp. and Energy Harbor Nuclear Generation LLC; Davis-Besse Nuclear Power Station, Unit 1; Ottawa County, OH
Docket No(s) | 50-334, 50-346, 50-412.
Amendment Date | April 16, 2021.
ADAMS Accession No | ML21075A113.
Amendment No(s) | Beaver Valley—311 (Unit 1) and 200 (Unit 2); Davis-Besse—302.
Brief Description of Amendment(s) | The amendments changed the Beaver Valley Power Station, Units 1 and 2, and the Davis-Besse Nuclear Power Station, Unit 1, Technical Specification (TS) 5.2, “Unit Staff,” Subpart 2.e, to align with the standard technical specifications (STS) for each type of facility. Additionally, a title listed in the STS is revised to reflect a more generic title. These changes do not alter any technical requirements and are administrative in nature.
Public Comments Received as to Proposed NSHC (Yes/No) | No.
Energy Harbor Nuclear Corp. and Energy Harbor Nuclear Generation LLC; Perry Nuclear Power Plant, Unit 1; Lake County, OH
Docket No(s) | 50-440.
Amendment Date | April 27, 2021.
ADAMS Accession No | ML21081A070.
Amendment No(s) | 193.
Brief Description of Amendment(s) | The amendment revised the requirements related to direct current (DC) electrical systems based on the NRC-approved Technical Specifications Task Force (TSTF) Traveler TSTF-500, Revision 2, “DC Electrical Rewrite—Update to TSTF-360.”
Public Comments Received as to Proposed NSHC (Yes/No) | No.
Entergy Nuclear Operations, Inc., Entergy Nuclear Indian Point 3, LLC; Indian Point Nuclear Generating Station, Unit No. 3; Westchester County, NY
Docket No(s) | 50-286.
Amendment Date | April 22, 2021.
ADAMS Accession No | ML21074A000.
Amendment No(s) | 270.
Brief Description of Amendment(s) | The amendment revised the Indian Point ,Unit No. 3, Renewed Facility Operating License (RFOL) and the Technical Specifications (TSs) in Appendix A to Permanently Defueled TSs (PDTS), the Environmental TS Requirements in Appendix B of the RFOL, and the Inter-Unit Transfer TSs in Appendix C. The amendment revised certain requirements contained within the Indian Point, Unit No. 3, RFOL and the Appendices A through C TSs and removed the requirements that will no longer be applicable after Indian Point, Unit No. 3, is permanently shut down and defueled.
Public Comments Received as to Proposed NSHC (Yes/No) | No.
Entergy Nuclear Operations, Inc.; Indian Point Nuclear Generating Station, Unit No. 1; Westchester County, NY
Docket No(s) | 50-003.
Amendment Date | April 14, 2021.
ADAMS Accession No | ML21083A000.
Amendment No(s) | 63.
Brief Description of Amendment(s) | The amendment revised the Indian Point Nuclear Generating Station, Unit No. 1, Provisional Operating License and the technical specifications in Appendix A to reflect the current conditions at Indian Point, Unit No. 1, and the permanent cessation of power operations at Indian Point Nuclear Generating Station, Unit No. 2, and to note that certain Indian Point, Unit No. 1, systems also support Indian Point Nuclear Generating Station, Unit No. 3.
Public Comments Received as to Proposed NSHC (Yes/No) | No.
Entergy Operations, Inc.; Arkansas Nuclear One, Unit 2; Pope County, AR
Docket No(s) | 50-368.
Amendment Date | April 14, 2021.
ADAMS Accession No | ML21088A433.
Amendment No(s) | 324.
Brief Description of Amendment(s) | The amendment revised the Arkansas Nuclear One, Unit 2, Technical Specifications to adopt Technical Specifications Task Force (TSTF) Traveler, TSTF-569, Revision 2, “Revise Response Time Testing Definition.”
Public Comments Received as to Proposed NSHC (Yes/No) | No.
Exelon FitzPatrick, LLC and Exelon Generation Company, LLC; James A FitzPatrick Nuclear Power Plant; Oswego County, NY
Docket No(s) | 50-333.
Amendment Date | April 28, 2021.
ADAMS Accession No | ML21049A355.
Amendment No(s) | 341.
Brief Description of Amendment(s) | The amendment revised the FitzPatrick technical specifications (TS) consistent with NRC-approved Industry Technical Specifications Task Force (TSTF) Change Traveler, TSTF-478-A, Revision 2, “BWR [Boiling-Water Reactor] Technical Specification Changes that Implement the Revised Rule for Combustible Gas Control.” Specifically, the amendment deleted TS 3.6.3.2, “Containment Atmosphere Dilution (CAD) System,” and the associated bases.
Public Comments Received as to Proposed NSHC (Yes/No) | No.
Exelon FitzPatrick, LLC and Exelon Generation Company, LLC; James A FitzPatrick Nuclear Power Plant; Oswego County, NY; Exelon Generation Company, LLC; Clinton Power Station, Unit 1; DeWitt County, IL; Exelon Generation Company, LLC; Dresden Nuclear Power Station, Units 2 and 3; Grundy County, IL; Exelon Generation Company, LLC; LaSalle County Station, Units 1 and 2; LaSalle County, IL; Exelon Generation Company, LLC; Peach Bottom Atomic Power Station, Units 2 and 3; York County, PA; Exelon Generation Company, LLC; Quad Cities Nuclear Power Station, Units 1 and 2; Rock Island County, IL; Nine Mile Point Nuclear Station, LLC and Exelon Generation Company, LLC; Nine Mile Point Nuclear Station, Unit 2; Oswego County, NY
Docket No(s) | 50-461, 50-237, 50-249, 50-333, 50-373, 50-374, 50-410, 50-277, 50-278, 50-254, 50-265.
Amendment Date | April 1, 2021.
ADAMS Accession No | ML21033A530.
Amendment No(s) | Clinton—236; Dresden—274 (Unit 2) and 267 (Unit 3); FitzPatrick—340; LaSalle—248 (Unit 1) and 234 (Unit 2); Nine Mile Point 2—185; Peach Bottom—337 (Unit 2) and 340 (Unit 3); Quad Cities—286 (Unit 1) and 282 (Unit 2).
Brief Description of Amendment(s) | The amendments revised the technical specifications for each facility to change the required actions for inoperable residual heat removal (RHR) shutdown cooling subsystems. The changes are based on Technical Specifications Task Force (TSTF) Traveler TSTF-566, Revision 0, “Revise Actions for Inoperable RHR Shutdown Cooling Subsystems” (ADAMS Accession No. ML18019B187).
Public Comments Received as to Proposed NSHC (Yes/No) | No.
Exelon Generation Company, LLC; Braidwood Station, Units 1 and 2; Will County, IL; Exelon Generation Company, LLC; Byron Station, Units 1 and 2; Ogle County, IL
Docket No(s) | 50-454, 50-455, 50-456, 50-457.
Amendment Date | April 2, 2021.
ADAMS Accession No | ML21060B281.
Amendment No(s) | Braidwood—221 (Unit 1) and 221 (Unit 2); Byron—224 (Unit 1) and 224 (Unit 2).
Brief Description of Amendment(s) | The amendments modified Technical Specification 3.8.1, “AC [Alternating Current] Sources-Operating,” to revise certain minimum and maximum voltage and frequency acceptance criteria for steady-state standby diesel generator surveillance testing.
Public Comments Received as to Proposed NSHC (Yes/No) | No.
PSEG Nuclear LLC; Hope Creek Generating Station; Salem County, NJ
Docket No(s) | 50-354.
Amendment Date | April 26, 2021.
ADAMS Accession No | ML21098A087.
Amendment No(s) | 228.
Brief Description of Amendment(s) | The amendment revised the Hope Creek technical specification (TS) requirements for unavailable barriers by adding Limiting Condition for Operation 3.0.9. This change is consistent with NRC-approved Industry Technical Specifications Task Force (TSTF) Change Traveler TSTF-427, Revision 2, “Allowance for Non Technical Specification Barrier Degradation on Supported System OPERABILITY.” The availability of this TS improvement was published in the Federal Register on October 3, 2006 (71 FR 58444), as part of the Consolidated Line Item Improvement Process (CLllP).
Public Comments Received as to Proposed NSHC (Yes/No) | No.
STP Nuclear Operating Company; South Texas Project, Units 1 and 2; Matagorda County, TX
Docket No(s) | 50-498, 50-499.
Amendment Date | April 7, 2021.
ADAMS Accession No | ML21007A231.
Amendment No(s) | 221 (Unit 1) and 206 (Unit 2).
Brief Description of Amendment(s) | The amendments authorized the revision of the emergency plan, which was rebaselined based on guidance in NUREG-0654/FEMA-REP-1, “Criteria for Preparation and Evaluation of Radiological Emergency Response Plans and Preparedness in Support of Nuclear Power Plants,” Revision 2.
Public Comments Received as to Proposed NSHC (Yes/No) | No.
STP Nuclear Operating Company; South Texas Project, Units 1 and 2; Matagorda County, TX
Docket No(s) | 50-498, 50-499.
Amendment Date | April 8, 2021.
ADAMS Accession No | ML21033A239.
Amendment No(s) | 222 (Unit 1) and 207 (Unit 2).
Brief Description of Amendment(s) | The amendments revised the technical specifications (TSs) to adopt Technical Specifications Task Force (TSTF) Traveler TSTF-374, Revision 0, “Revision to TS 5.5.13 and Associated TS Bases for Diesel Fuel Oil.”
Public Comments Received as to Proposed NSHC (Yes/No) | No.
Tennessee Valley Authority; Browns Ferry Nuclear Plant, Units 1, 2, and 3; Limestone County, AL
Docket No(s) | 50-259, 50-260, 50-296.
Amendment Date | April 8, 2021.
ADAMS Accession No | ML21041A489.
Amendment No(s) | 315 (Unit 1), 338 (Unit 2), and 298 (Unit 3).
Brief Description of Amendment(s) | The amendments revised the technical specifications (TS) by the adoption, with administrative and technical variations, of Technical Specifications Task Force (TSTF) Traveler TSTF-425, Revision 3, “Relocate Surveillance Frequencies to Licensee Control—Risk Informed Technical Specification Task Force (RITSTF) Initiative 5b.” TSTF-425, Revision 3, provides for the relocation of specific surveillance frequencies to a licensee-controlled program. Additionally, the change adds a new program, the Surveillance Frequency Control Program, to TS Section 5.0, “Administrative Controls.”
Public Comments Received as to Proposed NSHC (Yes/No) | No.
Vistra Operations Company LLC; Comanche Peak Nuclear Power Plant, Units 1 and 2; Somervell County, TX
Docket No(s) | 50-445, 50-446.
Amendment Date | April 23, 2021.
ADAMS Accession No | ML21103A039.
Amendment No(s) | 179 (Unit 1) and 179 (Unit 2).
Brief Description of Amendment(s) | The amendments adopted Technical Specifications Task Force (TSTF) Traveler TSTF-569, Revision 2, “Revise Response Time Testing Definition.” The amendments revised the technical specification definitions for engineered safety feature response time and reactor trip system response time.
Public Comments Received as to Proposed NSHC (Yes/No) | No.
Wolf Creek Nuclear Operating Corporation; Wolf Creek Generating Station, Unit 1; Coffey County, KS
Docket No(s) | 50-482.
Amendment Date | April 8, 2021.
ADAMS Accession No | ML21053A117.
Amendment No(s) | 227.
Brief Description of Amendment(s) | The amendment revised the technical specifications by relocating specific surveillance frequencies to a licensee- controlled program with the implementation of Nuclear Energy Institute (NEI) 04-10, “Risk-Informed Technical Specification Initiative 5b, Risk-Informed Method for Control of Surveillance Frequencies.”
Public Comments Received as to Proposed NSHC (Yes/No) | No.
Wolf Creek Nuclear Operating Corporation; Wolf Creek Generating Station, Unit 1; Coffey County, KS
Docket No(s) | 50-482.
Amendment Date | April 23, 2021.
ADAMS Accession No | ML21061A078.
Amendment No(s) | 228.
Brief Description of Amendment(s) | The amendment changed the Updated Safety Analysis Report describing the design and operation of replacement engineered safety features transformers that have active automatic load tap changes.
Public Comments Received as to Proposed NSHC (Yes/No) | No.

IV. Notice of Issuance of Amendment to Facility Operating Licenses and Combined Licenses and Final Determination of No Significant Hazards Consideration and Opportunity for a Hearing (Exigent Circumstances or Emergency Situation)

Since publication of the last monthly notice, the Commission has issued the following amendment. The Commission has determined for this amendment that the application for the amendment complies with the standards and requirements of the Atomic Energy Act of 1954, as amended (the Act), and the Commission's rules and regulations. The Commission has made appropriate findings as required by the Act and the Commission's rules and regulations in 10 CFR chapter I, which are set forth in the license amendment.

Because of exigent circumstances or emergency situation associated with the date the amendment was needed, there was not time for the Commission to publish, for public comment before issuance, its usual notice of consideration of issuance of amendment, proposed NSHC determination, and opportunity for a hearing.

For exigent circumstances, the Commission has either issued a Federal Register notice providing opportunity for public comment or has used local media to provide notice to the public in the area surrounding a licensee's facility of the licensee's application and of the Commission's proposed determination of NSHC. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its NSHC determination. In such case, the license amendment has been issued without opportunity for comment prior to issuance. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that NSHC is involved.

The Commission has applied the standards of 10 CFR 50.92 and has made a final determination that the amendment involves NSHC. The basis for this determination is contained in the documents related to each action. Accordingly, the amendment has been issued and made effective as indicated. For those amendments that have not been previously noticed in the Federal Register, within 60 days after the date of publication of this notice, any persons (petitioner) whose interest may be affected by this action may file a request for a hearing and petition for leave to intervene (petition) with respect to the action. Petitions shall be filed in accordance with the guidance concerning the Commission's “Agency Rules of Practice and Procedure” in 10 CFR part 2 as discussed in section II.A of this document.

Unless otherwise indicated, the Commission has determined that the amendment satisfies the criteria for categorical exclusion in accordance with 10 CFR 51.22. Therefore, pursuant to 10 CFR 51.22(b), no environmental impact statement or environmental assessment need be prepared for this amendment. If the Commission has prepared an environmental assessment under the special circumstances provision in 10 CFR 51.12(b) and has made a determination based on that assessment, it is so indicated in the safety evaluation for the amendment.

For further details with respect to these actions, see the amendment and associated documents such as the Commission's letter and safety evaluation, which may be obtained using the ADAMS accession numbers indicated in the table below. The safety evaluation will provide the ADAMS accession number(s) for the application for amendment and the Federal Register citation for any environmental assessment. All of these items can be accessed as described in the “Obtaining Information and Submitting Comments” section of this document.

License Amendment Issuance(s)—Exigent/Emergency Circumstances
Southern Nuclear Operating Company, Inc.; Edwin I Hatch Nuclear Plant, Unit 2; Appling County, GA
Docket No(s) | 50-366.
Amendment Date | April 22, 2021.
ADAMS Accession No | ML21109A388.
Amendment No(s) | 254.
Brief Description of Amendment(s) | The one-time emergency amendment approved a revision to Edwin I. Hatch, Unit 2 Technical Specification 3.5.1, “ECCS [Emergency Core Cooling System]—Operating,” to extend the Completion Time from 7 days to 15 days to effect repairs and testing of the 2D residual heat removal pump that failed during a test on April 16, 2021. The amendment allows the unit to continue operating at full power with compensatory measures until May 1, 2021.
Local Media Notice (Yes/No) | No.
Public Comments Requested as to Proposed NSHC (Yes/No) | No.

Dated: May 12, 2021.
For the Nuclear Regulatory Commission.
Caroline L. Carusone,
Deputy Director, Division of Operating Reactor Licensing, Office of Nuclear Reactor Regulation.

[FR Doc. 2021-10374 Filed 5-17-21; 8:45 am]

BILLING CODE 7590-01-P